DEPARTMENT OF DEFENSE

Department of the Army

[Docket ID: USA-2013-0045]

Privacy Act of 1974; System of Records

AGENCY: Department of the Army, DoD.

ACTION: Notice to add a new System of Records.

SUMMARY: The Department of the Army proposes to add a new system of records, A0500-5 DAMO, The Mobilization Common Operating Picture System (MOBCOP), in its inventory of record systems subject to the Privacy Act of 1974, as amended. This system will be used to provide a portal for authorization, management, accountability, mobilization and demobilization of Army Reserve Component Soldiers and Units, and Air Force, Navy and Marine Corps requesting and scheduling “Army unit” required training before entering into CENTCOM's theater of operation.

DATES: This proposed action will be effective on January 7, 2014 unless comments are received which result in a contrary determination. Comments will be accepted on or before January 6, 2014.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army notices for systems of records subject to the Privacy Act of 1974 (5 U.S.C. 552a), as amended, have been published in the Federal Register and are available from the address in FOR FURTHER INFORMATION CONTACT or at http://dpclo.defense.gov/privacy/SORNs/component/army/index.html.

The proposed system report, as required by 5 U.S.C. 552a(r) of the Privacy Act of 1974, as amended, was submitted on October 31, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 2, 2013.
Aaron Siegel,
Alternate OSD Federal Register Liaison Officer, Department of Defense.

A0500-5 DAMO

System name:

Mobilization Common Operating Picture System (MOBCOP).

System location:

Army Operation Center, The Pentagon, Room BE745, Washington, DC 20310-0400.

Categories of individuals covered by the system:

All Army Reserve personnel assigned for mobilization; Active duty, Reserve and National Guard personnel receiving Permanent Change of Station (PCS) orders. Army Soldiers filling a Worldwide Individual Augmentation System (WIAS) position will be processed through MOBCOP's Overseas Contingency Operations—Temporary Change of Station (OCO-TCS) application to receive TCS and NATO orders to deploy into theater. The Service force providers (Air Force/Navy/Marine Corps) requesting and scheduling “Army unit” required training before entering into CENTCOM's theater of operation.

Categories of records in the system:

Personnel information which has been extracted from official personnel files and Manpower Authorization files, including name; grade/rank; Social Security Number (SSN); DoD ID Number, gender; Military Occupational Skills and/or Civilian Occupational Series; additional Skill Identifiers; security clearance; current unit of assignment; deployment eligibility; Service Component; mobilization date; mobilization location; and mobilization history. In addition, PCS records contain allowances, entitlements and future assignment of duty.

Authority for maintenance of the system:

10 U.S.C. 151, Joint Chiefs of Staff: composition; functions; 10 U.S.C. 153, Chairman: functions; 10 U.S.C. 162, Combatant commands: assigned forces; chain of command; 10 U.S.C. 164, Commanders of combatant commands: assignment; powers; 10 U.S.C. 167, Unified combatant command for special operations; 10 U.S.C. 3013, Secretary of the Army; 10 U.S.C. 5031, Office of the Chief of Naval Operations: function; composition; 10 U.S.C. 8031, The Air Staff: Function; composition; 10 U.S.C. 12301, Reserve components generally; 10 U.S.C. 12302, Ready Reserve; 10 U.S.C. 12304, Selected Reserve and Certain Individual Ready Reserve Members; Order to Active Duty other than during war or National emergency; Joint Publications 1-0, Personnel Support to Joint Operations, 2-0, Joint Intelligence, 3-0, Joint Operations, and 5-0, Joint Operation Planning; Army General Order No. 2012-01, Assignment of Functions and Responsibilities Within Headquarters, Department of the Army, CJCSI 1301.01E, Joint Individual Augmentation Procedures; DA PAM 500-5-1, Individual Augmentation Management; and E.O. 9397 (SSN), as amended.

Purpose(s):

The Mobilization Common Operating Picture System (MOBCOP) will provide a portal for authorization, management, accountability, mobilization, deployment, redeployment, and demobilization of Active, Reserve, and National Guard Soldiers and Units. MOBCOP is used by authorized officials within the Army in performing all administrative functions with respect to personnel assigned against mobilization requirements in the system and for monitoring and processing requests for mobilization and demobilization. Jointly, facilitate Service force providers (Air Force/Navy/Marine Corps) requesting and scheduling “Army unit” required training before entering into CENTCOM's theater of operations.

Routine uses of records maintained in the system, including categories of users and the purposes of such uses:

In addition to those disclosures generally permitted under Title 5 U.S.C. 552a(b) of the Privacy Act of 1974, as amended, these records contained therein may specifically be disclosed outside the Department of Defense as a routine use pursuant to Title 5 U.S.C. 552a(b)(3) as follows:

The DoD Blanket Routine Uses published at the beginning of the Army's compilation of record system notices may apply to this system.

Policies and practices for storing, retrieving, accessing, retaining, and disposing of records in the system:

Storage:

Electronic storage media.

Retrievability:

Retrieved by SSN and/or any combination of the data fields described in the Categories of Records.

Safeguards:

All Mobilization Common Operating Picture (MOBCOP) servers are located in the Pentagon, Washington, DC and access is controlled by the Information Management Support Center (IMCEN). All COOP servers are located remotely with controlled access as well. Access to this record system is restricted to authorized personnel in performance of official duties. Entry into the system requires login and password. The system employs secure socket layer certificate and the Social Security Number data is encrypted to provide further protection.

Retention and disposal:

Mobilization and Permanent Change of Station (PCS) records are permanent. Unofficial personnel records are deleted by erasing when no longer needed for current business.

System manager(s) and address:

Chief, Mobilization Deployment Information System (MDIS) Branch, Current Operations Division, Headquarters, Department of the Army, G3/5/7, Army Operations Center, Washington, DC 20310-0400.

At Army mobilized organizations:

Commander or supervisor of organization maintaining operational tracking of requirements or assigned personnel provided in response to an assigned requirement. Official mailing addresses are published as an appendix to the Army's compilation of systems of records notices.

Notification procedure:

Individuals seeking to determine if information about themselves is contained in this system should address written inquiries to the Chief, Mobilization Deployment Information (MDIS) Branch, Current Operations Division, Headquarters, Department of the Army, G3/5/7, Army Operations Center, Washington, DC 20310-0400. Air Force, Navy and Marine Corps personnel should contact their current or former commander or supervisor of the organization to which the individual is/was assigned or employed. Addresses can be found on the published orders from their assigned unit. Official mailing addresses are published as an appendix to the Army's compilation of systems of records notices procedure.

Individual should provide full name, SSN and/or DoD ID number and military status or other information verifiable from the record itself.

In addition, the requester must provide a notarized statement or an unsworn declaration made in accordance with 28 U.S.C. 1746, unsworn declaration under penalty of perjury; in the following format:

If executed outside the United States: `I declare (or certify, verify, or state) under penalty of perjury under the laws of the United States of America that the foregoing is true and correct. Executed on (date). (Signature)'

If executed within the United States, its territories, possessions, or commonwealths: `I declare (or certify, verify, or state) under penalty of perjury that the foregoing is true and correct. Executed on (date). (Signature)'

Record access procedures:

Individuals seeking access to information about themselves contained in this system should address written inquiries to the Chief, Mobilization Deployment Information System (MDIS) Branch, Current Operations Division, Headquarters, Department of the Army, G3/5/7, Army Operations Center, Washington, DC 20310-0400. Air Force, Navy and Marine Corps personnel should contact their current or former commander or supervisor of the organization to which the individual is/was assigned or employed. Addresses can be found on the published orders from their assigned unit. Official mailing addresses are published as an appendix to the Army's compilation of systems of records notices procedure.

Individual should provide full name, SSN and/or DoD ID number and military status or other information verifiable from the record itself.

In addition, the requester must provide a notarized statement or an unsworn declaration made in accordance with 28 U.S.C. 1746, Unsworn declaration under penalty of perjury; in the following format:

If executed outside the United States: `I declare (or certify, verify, or state) under penalty of perjury under the laws of the United States of America that the foregoing is true and correct. Executed on (date). (Signature)'

If executed within the United States, its territories, possessions, or commonwealths: `I declare (or certify, verify, or state) under penalty of perjury that the foregoing is true and correct. Executed on (date). (Signature)'

Contesting record procedures:

The Army's rules for accessing records and for contesting contents and appealing initial agency determinations are contained in Army Regulation 340-21, The Army Privacy Program; Title 32 CFR National Defense, part 505, Army Privacy Act Program; or may be obtained from the system manager.

Record source categories:

From the individual and the individual's official personnel file, Total Army Personnel Database system, Department of the Army Mobilization Processing System (DAMPS), and the integrated Total Army Personnel Database system.

Exemptions claimed for the system:

None.

[FR Doc. 2013-29091 Filed 12-5-13; 8:45 am]

BILLING CODE 5001-06-P